DEPARTMENT OF HOMELAND SECURITY

Federal Emergency Management Agency

[Docket ID: FEMA-2009-0001]

Agency Information Collection Activities: Submission for OMB Review; Comment Request, OMB No. 1660—NEW; Regional Catastrophic Preparedness Grant Program (RCPGP)

AGENCY: Federal Emergency Management Agency, DHS.

ACTION: Notice; 30-day notice and request for comments; new information collection; OMB No. 1660—NEW; FEMA Form FEMA Form 089-19, RCPGP Investment Justification Template; FEMA Form 089-26, RCGCP (Sample) Detailed Project Plan Template; FEMA Form 089-17, RCPT Membership List.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before April 16, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

SUPPLEMENTARY INFORMATION:

Collection of Information

Title: FEMA Preparedness Grants: Regional Catastrophic Preparedness Grant Program (RCPGP).

Type of information collection: New information collection.

OMB Number: 1660—NEW.

Form Titles and Numbers: FEMA Form 089-19, RCPGP Investment Justification Template; FEMA Form 089-26, RCGCP (Sample) Detailed Project Plan Template; FEMA Form 089-17, RCPT Membership List.

Abstract: The RCPGP is an important tool among a comprehensive set of measures to help strengthen the Nation against risks associated with potential terrorist attacks. DHS/FEMA uses the information to evaluate applicants' familiarity with the national preparedness architecture and identify how elements of this architecture have been incorporated into regional/state/local planning, operations, and investments.

Affected Public: State, Local or Tribal Government.

Estimated Number of Respondents: 10.

Frequency of Response: On occasion.

Estimated Average Hour Burden per Respondent: 176.2 hours.

Estimated Total Annual Burden Hours: 1,762 hours.

Estimated Cost: There is no annual reporting recordkeeping cost associated with this collection.

Dated: March 2, 2010.
Larry Gray,
Director, Office of Records Management, Office of Management, Federal Emergency Management Agency, Department of Homeland Security.

[FR Doc. 2010-5854 Filed 3-16-10; 8:45 am]

BILLING CODE 9111-46-P